RAILROAD RETIREMENT BOARD

Proposed Collection; Comment Request

Summary: In accordance with the requirement of Section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: Representative Payee Monitoring; OMB 3220-0151. Under Section 12 of the Railroad Retirement Act (RRA), the RRB may pay annuity benefits to a representative payee when an employee, spouse, or survivor annuitant is incompetent or a minor. The RRB is responsible for determining if direct payment to an annuitant or a representative payee would best serve the annuitant's best interest. The accountability requirements authorizing the RRB to conduct periodic monitoring of representative payees, including a written accounting of benefit payments received, are prescribed in 20 CFR 266.7. The RRB utilizes the following forms to conduct its representative payee monitoring program.

Form G-99a, Representative Payee Report, is used to obtain information needed to determine whether the benefit payments certified to the representative payee have been used for the annuitant's current maintenance and personal needs and whether the representative payee continues to be concerned with the annuitant's welfare. RRB Form G-99c, Representative Payee Evaluation Report, is used to obtain more detailed information from a representative payee who fails to complete and return Form G-99a or in situations when the returned Form G-99a indicates the possible misuse of funds by the representative payee. Form G-99c contains specific questions concerning the representative payee's performance and is used by the RRB to determine whether or not the representative payee should continue in that capacity. The RRB proposes no changes to Forms G-99a and G-99c.

In response to the RRB's Office of Inspector General's recommendation to strengthen the controls of the agency's representative payee monitoring program, the RRB proposes new Form G-106, Statement of Care and Responsibility to Annuitant. In cases where the representative payee does not have custody of the annuitant, Form G-106 will be used to solicit information about the representative payee's performance and the annuitant's well-being from the custodian of the annuitant. The proposed form contains specific questions concerning the representative payee's performance, and will be used by the RRB to determine whether or not the representative payee should continue in that capacity.

Completion of the forms in this collection is required to retain benefits.

Estimate of Annual Respondent Burden
Form number | Annual responses | Time (minutes) | Burden (hours)
G-99a (legal and all other, excepting parent for child) | 5,400 | 18 | 1,620
G-99c (Parts I and II) | 300 | 24 | 120
G-99c (Parts I, II, and III) | 120 | 31 | 62
G-106 | 500 | 10 | 83
Total | 6,320 |  | 1,885

Additional Information or Comments: To request more information or to obtain a copy of the information collection justification, forms, and/or supporting material, contact Dana Hickman at (312) 751-4981 or Dana.Hickman@RRB.GOV. Comments regarding the information collection should be addressed to Brian Foster, Railroad Retirement Board, 844 North Rush Street, Chicago, Illinois 60611-1275 or emailed to Brian.Foster@rrb.gov. Written comments should be received within 60 days of this notice.

Brian D. Foster,
Clearance Officer.

[FR Doc. 2017-08477 Filed 4-26-17; 8:45 am]

BILLING CODE 7905-01-P